DEPARTMENT OF TRANSPORTATION

Federal Aviation Administration

14 CFR Part 39

[Docket No. FAA-2013-1059; Directorate Identifier 2013-NE-36-AD; Amendment 39-18281; AD 2015-20-03]

RIN 2120-AA64

Airworthiness Directives; Pratt & Whitney Canada Corp. Turboprop Engines

AGENCY: Federal Aviation Administration (FAA), DOT.

ACTION: Final rule.

SUMMARY: We are superseding airworthiness directive (AD) 2014-14-02 for certain Pratt & Whitney Canada Corp. (P&WC) PW120, PW121, PW121A, PW124B, PW127, PW127E, PW127F, PW127G, and PW127M turboprop engines. AD 2014-14-02 required removal of the O-ring seal from the fuel manifold fitting. This new AD requires replacement of the fuel nozzle and the fuel manifold flow adapter. This AD was prompted by reports of fuel leaks at the interface between the fuel manifold and the fuel nozzle that resulted in engine fire. We are issuing this AD to correct the unsafe condition on these products.

DATES: This AD is effective November 18, 2015.

The Director of the Federal Register approved the incorporation by reference of a certain publication listed in this AD as of November 18, 2015.

ADDRESSES: For service information identified in this AD, contact Pratt & Whitney Canada Corp., 1000 Marie-Victorin, Longueuil, Quebec, Canada, J4G 1A1; phone: 800-268-8000; fax: 450-647-2888; Web site: www.pwc.ca. You may view this service information at the FAA, Engine & Propeller Directorate, 12 New England Executive Park, Burlington, MA. For information on the availability of this material at the FAA, call 781-238-7125. It is also available on the Internet at http://www.regulations.gov by searching for and locating Docket No. FAA-2013-1059.

Examining the AD Docket

You may examine the AD docket on the Internet at http://www.regulations.gov by searching for and locating Docket No. FAA-2013-1059; or in person at the Docket Management Facility between 9 a.m. and 5 p.m., Monday through Friday, except Federal holidays. The AD docket contains this AD, the mandatory continuing airworthiness information, regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Barbara Caufield, Aerospace Engineer, Engine Certification Office, FAA, Engine & Propeller Directorate, 12 New England Executive Park, Burlington, MA 01803; phone: 781-238-7146; fax: 781-238-7199; email: barbara.caufield@faa.gov.

SUPPLEMENTARY INFORMATION:

Discussion

We issued a notice of proposed rulemaking (NPRM) to amend 14 CFR part 39 to supersede AD 2014-14-02, Amendment 39-17896 (79 FR 39958, July 11, 2014), (“AD 2014-14-02”). AD 2014-14-02 applied to certain P&WC PW120, PW121, PW121A, PW124B, PW127, PW127E, PW127F, PW127G, and PW127M turboprop engines. The NPRM published in the Federal Register on June 2, 2015 (80 FR 31325). The NPRM proposed to require replacement of the fuel nozzle and the fuel manifold flow adapter.

Related Service Information Under 1 CFR Part 51

We reviewed P&WC SB No. PW100-72-21861, dated November 21, 2014, which identifies the final fuel nozzle configuration. This service information is reasonably available because the interested parties have access to it through their normal course of business or by the means identified in the ADDRESSES section of this AD.

Comments

We gave the public the opportunity to participate in developing this AD. We received no comments on the NPRM (80 FR 31325, June 2, 2015) or on the determination of the cost to the public.

Conclusion

We reviewed the available data and determined that air safety and the public interest require adopting this AD as proposed.

Costs of Compliance

We estimate that this AD affects 150 engines installed on airplanes of U.S. registry. We also estimate that it will take about 2.5 hours per engine to comply with this AD. The average labor rate is $85 per hour. Required parts cost about $146,594 per engine. Based on these figures, we estimate the cost of this AD on U.S. operators to be $22,020,975.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2014-14-02], Amendment 39-17896 (79 FR 39958, July 11, 2014), and adding the following new AD:

2015-20-03 Pratt & Whitney Canada Corp.: Amendment 39-18281; Docket No. FAA-2013-1059; Directorate Identifier 2013-NE-36-AD.

(a) Effective Date

This AD is effective November 18, 2015.

(b) Affected ADs

This AD replaces AD 2014-14-02, Amendment 39-17896 (79 FR 39958, July 11, 2014).

(c) Applicability

This AD applies to Pratt & Whitney Canada Corp. (P&WC) PW120, PW121, and PW121A turboprop engines with post SB 21610 configuration; PW124B, PW127, PW127E, and PW127F turboprop engines with post SB 21607 configuration; PW127E and PW127F turboprop engines with serial numbers (S/Ns) PCE-EB0366 and earlier; PW127G turboprop engines with S/Ns PCE-AX0275 and earlier; and PW127M turboprop engines with S/Ns PCE-ED0810 and earlier.

(d) Unsafe Condition

This AD was prompted by reports of fuel seepage past the metal-to-metal sealing surfaces of the fuel nozzle and fuel manifold flow adapter. We are issuing this AD to prevent in-flight fuel leakage, engine fire, damage to the engine, and damage to the airplane.

(e) Compliance

Comply with this AD within the compliance times specified, unless already done. Within 1,500 flight hours after the effective date of this AD, or at the next engine shop visit, whichever occurs first:

(1) Remove the O-ring seal from the fuel manifold fitting,

(2) Remove fuel manifold flow adapter, part numbers (P/Ns) 3059754-01, 3059757-01, and 3059760-01; and

(3) Install a fuel nozzle gasket and fuel manifold flow adapter that are eligible for installation, in accordance with paragraphs 3.A, 3.B, and 3.C of P&WC SB No. PW100-72-21861, dated November 21, 2014.

(f) Installation Prohibition

After the effective date of this AD, fuel manifold adapter, P/Ns 3059754-01, 3059757-01, and 3059760-01, and fuel manifold gasket, P/N 3079354-01, are not eligible for installation in any engine.

(g) Definition

For the purpose of this AD, an engine shop visit is the induction of an engine into the shop for maintenance involving the separation of pairs of major mating engine flanges. The separation of engine flanges solely for the purpose of transportation without subsequent engine maintenance does not constitute an engine shop visit.

(h) Alternative Methods of Compliance (AMOCs)

The Manager, Engine Certification Office, FAA, may approve AMOCs to this AD. Use the procedures found in 14 CFR 39.19 to make your request. You may email your request to: ANE-AD-AMOC@faa.gov.

(i) Related Information

(1) For more information about this AD, contact Barbara Caufield, Aerospace Engineer, Engine Certification Office, FAA, Engine & Propeller Directorate, 12 New England Executive Park, Burlington, MA 01803; phone: 781-238-7146; fax: 781-238-7199; email: barbara.caufield@faa.gov.

(2) Refer to MCAI Transport Canada AD CF-2014-41, dated November 26, 2014, for related information. You may examine the MCAI in the AD docket on the Internet at http://www.regulations.gov by searching for and locating it in Docket No. FAA-2013-1059.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Pratt & Whitney Canada Corp. Service Bulletin (SB) No. PW100-72-21861, dated November 21, 2014.

(ii) Reserved.

(3) For Pratt & Whitney Canada Corp. service information identified in this AD, contact Pratt & Whitney Canada Corp., 1000 Marie-Victorin Blvd., Longueuil, Quebec, Canada, J4G 1A1; phone: 800-268-8000; fax: 450-647-2888; Web site: www.pwc.ca.

(4) You may view this service information at FAA, Engine & Propeller Directorate, 12 New England Executive Park, Burlington, MA. For information on the availability of this material at the FAA, call 781-238-7125.

(5) You may view this service information at the National Archives and Records Administration (NARA). For information on the availability of this material at NARA, call 202-741-6030, or go to: http://www.archives.gov/federal-register/cfr/ibr-locations.html.

Issued in Burlington, Massachusetts, on September 22, 2015.
Colleen M. D'Alessandro,
Directorate Manager, Engine & Propeller Directorate, Aircraft Certification Service.

[FR Doc. 2015-25718 Filed 10-13-15; 8:45 am]

BILLING CODE 4910-13-P